DEPARTMENT OF TRANSPORTATION

Federal Aviation Administration

14 CFR Part 39

[Docket No. FAA-2020-0107; Product Identifier 2019-NM-205-AD; Amendment 39-21209; AD 2020-17-04]

RIN 2120-AA64

Airworthiness Directives; The Boeing Company Airplanes

AGENCY: Federal Aviation Administration (FAA), DOT.

ACTION: Final rule.

SUMMARY: The FAA is superseding Airworthiness Directive (AD) 2019-03-06, which applied to certain The Boeing Company Model 737-300, -400, and -500 series airplanes. AD 2019-03-06 required installing lanyard assemblies on the passenger service units (PSUs) and, for certain airplanes, on the life vest panels. This AD was prompted by a report indicating that the PSUs became separated from their attachments during several survivable accident sequences, and by the determination that additional actions are necessary for five airplanes. This AD retains the requirements of AD 2019-03-06 and also requires installation of lanyard assemblies on the life vest panels on those five airplanes. The FAA is issuing this AD to address the unsafe condition on these products.

DATES: This AD is effective September 29, 2020.

The Director of the Federal Register approved the incorporation by reference of certain publications listed in this AD as of September 29, 2020.

The Director of the Federal Register approved the incorporation by reference of a certain other publication listed in this AD as of March 29, 2019 (84 FR 5587, February 22, 2019).

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available on the internet at https://www.regulations.gov by searching for and locating Docket No. FAA-2020-0107.

Examining the AD Docket

You may examine the AD docket on the internet at https://www.regulations.gov by searching for and locating Docket No. FAA-2020-0107; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Scott Craig, Aerospace Engineer, Cabin Safety and Environmental Systems Section, FAA, Seattle ACO Branch, 2200 South 216th St., Des Moines, WA 98198; phone and fax: 206-231-3566; email: Michael.S.Craig@faa.gov.

SUPPLEMENTARY INFORMATION:

Discussion

The FAA issued a notice of proposed rulemaking (NPRM) to amend 14 CFR part 39 to supersede AD 2019-03-06, Amendment 39-19558 (84 FR 5587, February 22, 2019) (“AD 2019-03-06”). AD 2019-03-06 applied to certain The Boeing Company Model 737-300, -400, and -500 series airplanes. The NPRM published in the Federal Register on March 9, 2020 (85 FR 13581). The NPRM was prompted by a report indicating that the PSUs became separated from their attachments during several survivable accident sequences, and by the determination that additional actions are necessary for five airplanes. The NPRM proposed to retain the requirement to install lanyard assemblies on PSUs and, for certain airplanes, on the life vest panels. The NPRM further proposed to require installing lanyard assemblies on the life vest panels for those five airplanes on which installation was not originally required. The FAA is issuing this AD to address the potential for the PSUs to detach and fall into the cabin, which could lead to passenger injuries and impede egress during an evacuation.

Comments

The FAA gave the public the opportunity to participate in developing this AD. The following presents the comments received on the NPRM and the FAA's response to each comment.

Support for the NPRM

Two anonymous commenters supported the NPRM.

Request Regarding Jurisdiction for Added Airplanes

Another anonymous commenter supported the NPRM and requested information about the five airplanes for which the additional work would be required by the proposed AD. The commenter asked where those airplanes are registered and how they pertain to the jurisdiction of the FAA.

The FAA has jurisdiction over airplanes identified in the applicability of this AD regardless of where they are registered. The United States is the state of design for the affected Boeing airplanes, and the FAA is taking action to resolve the unsafe condition that could exist or develop on the identified airplanes. The FAA has not changed the final rule regarding this issue.

Request To Clarify Credit Provisions

Boeing requested that the FAA revise paragraph (i) of the proposed AD, which would provide credit for use of Boeing Service Bulletin 737-25-1728, dated October 10, 2016, to do the actions specified in paragraph (g)(1) of the proposed AD. (Boeing Service Bulletin 737-25-1728, Revision 1, dated November 26, 2019, was issued when it was discovered that five airplanes had been inadvertently excluded from the requirement to install lanyards on the life vest panels. Revision 1 moved those five airplanes from Group 1 to form new Group 3, and added the lanyard installation procedures for Group 3.) Boeing asserted that the proposed credit language would provide credit for all requirements for a Group 3 airplane, although the work performed would not fully mitigate the unsafe condition because the life vest panels would not include lanyards.

The FAA agrees that clarification is necessary. Boeing Service Bulletin 737-25-1728, dated October 10, 2016, while not requiring the lanyard installation on life vest panels for Group 3 airplanes, did provide the lanyard installation procedures for other airplanes. Therefore, credit may be allowed for a Group 3 airplane if lanyards were installed on the life vest panels using that service bulletin. To emphasize that the lanyard installation is mandatory for Group 3 airplanes, the FAA has clarified the provisions of paragraph (i) of this AD to state that the lanyard installation is required, regardless of the service bulletin revision level used.

Effect of Winglets on Accomplishment of the Proposed Actions

Aviation Partners Boeing stated that the installation of winglets per Supplemental Type Certificate (STC) ST01219SE does not affect the accomplishment of the manufacturer's service instructions.

The FAA agrees that STC ST01219SE does not affect the accomplishment of the manufacturer's service instructions. Therefore, the installation of STC ST01219SE does not affect the ability to accomplish the actions required by this AD. The FAA has not changed this AD in this regard.

Conclusion

The FAA reviewed the relevant data, considered the comments received, and determined that air safety and the public interest require adopting this AD with the changes described previously, and minor editorial changes. The FAA has determined that these minor changes:

• Are consistent with the intent that was proposed in the NPRM for addressing the unsafe condition; and

• Do not add any additional burden upon the public than was already proposed in the NPRM.

The FAA also determined that these changes will not increase the economic burden on any operator or increase the scope of this AD.

Related Service Information Under 1 CFR Part 51

The FAA reviewed Boeing Special Attention Service Bulletin 737-25-1728, Revision 1, dated November 26, 2019. The service information describes procedures for installing lanyard assemblies on the PSUs and life vest panels, as applicable to the airplane group.

This AD also requires Boeing Requirements Bulletin 737-25-1758 RB, dated November 8, 2017, which the Director of the Federal Register approved for incorporation by reference as of March 29, 2019 (84 FR 5587, February 22, 2019).

This service information is reasonably available because the interested parties have access to it through their normal course of business or by the means identified in the ADDRESSES section.

Costs of Compliance

The FAA estimates that this AD affects 221 airplanes of U.S. registry. The new actions in this AD apply to only 5 airplanes, none of which is registered in the U.S. The FAA estimates the following costs to comply with this AD:

Estimated Costs
Action | Labor cost | Parts cost | Cost per product | Cost on U.S. operators
Lanyard assembly installation | Up to 124 work-hours × $85 per hour = Up to $10,540 | Up to $11,000 | Up to $21,540 | Up to $4,760,340.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive AD 2019-03-06, Amendment 39-19558 (84 FR 5587, February 22, 2019), and adding the following new AD:

2020-17-04 The Boeing Company: Amendment 39-21209; Docket No. FAA-2020-0107; Product Identifier 2019-NM-205-AD.

(a) Effective Date

This AD is effective September 29, 2020.

(b) Affected ADs

This AD replaces AD 2019-03-06, Amendment 39-19558 (84 FR 5587, February 22, 2019) (“AD 2019-03-06”).

(c) Applicability

This AD applies to The Boeing Company Model 737-300, -400, and -500 series airplanes, certificated in any category, as identified in the service information specified in paragraphs (c)(1) and (2) of this AD.

(1) Boeing Special Attention Service Bulletin 737-25-1728, Revision 1, dated November 26, 2019.

(2) Boeing Requirements Bulletin 737-25-1758 RB, dated November 8, 2017.

(d) Subject

Air Transport Association (ATA) of America Code 25, Equipment/furnishings.

(e) Unsafe Condition

This AD was prompted by a report indicating that the passenger service units (PSUs) became separated from their attachments during several survivable accident sequences, and by the determination that additional actions are necessary for five airplanes. The FAA is issuing this AD to address the potential for the PSUs to detach and fall into the cabin, which could lead to passenger injuries and impede egress during an evacuation.

(f) Compliance

Comply with this AD within the compliance times specified, unless already done.

(g) Required Actions

(1) For airplanes identified in Boeing Special Attention Service Bulletin 737-25-1728, Revision 1, dated November 26, 2019: At the applicable times specified in paragraph 1.E., “Compliance,” of Boeing Special Attention Service Bulletin 737-25-1728, Revision 1, dated November 26, 2019, do all applicable actions identified as “RC” (required for compliance) in, and in accordance with, the Accomplishment Instructions of Boeing Special Attention Service Bulletin 737-25-1728, Revision 1, dated November 26, 2019.

(2) For airplanes identified in Boeing Requirements Bulletin 737-25-1758 RB, dated November 8, 2017: Except as required by paragraph (h) of this AD, at the applicable times specified in the “Compliance” paragraph of Boeing Requirements Bulletin 737-25-1758 RB, dated November 8, 2017, do all applicable actions identified in, and in accordance with, the Accomplishment Instructions of Boeing Requirements Bulletin 737-25-1758 RB, dated November 8, 2017.

Note 1 to paragraph (g)(2): Guidance for accomplishing the actions required by paragraph (g)(2) of this AD can be found in Boeing Service Bulletin 737-25-1758, dated November 8, 2017, which is referred to in Boeing Requirements Bulletin 737-25-1758 RB, dated November 8, 2017.

(h) Exception to Service Information Specifications

Where Boeing Requirements Bulletin 737-25-1758 RB, dated November 8, 2017, uses the phrase “the original issue date of the Requirements Bulletin (RB),” this AD requires using March 29, 2019 (the effective date of AD 2019-03-06).

(i) Credit for Previous Actions

(1) For airplanes identified as Group 3 in Boeing Service Bulletin 737-25-1728, Revision 1, dated November 26, 2019: This paragraph provides credit for the actions specified in paragraph (g)(1) of this AD, provided those actions were performed before the effective date of this AD using Boeing Service Bulletin 737-25-1728, dated October 10, 2016, and provided lanyards are installed on the life vest panels, using either Boeing Service Bulletin 737-25-1728, dated October 10, 2016; or Revision 1, dated November 26, 2019.

(2) For airplanes not identified in paragraph (i)(1) of this AD: This paragraph provides credit for the actions specified in paragraph (g)(1) of this AD, if those actions were performed before the effective date of this AD using Boeing Service Bulletin 737-25-1728, dated October 10, 2016.

(j) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) For service information that contains steps that are labeled as Required for Compliance (RC), the provisions of paragraphs (j)(4)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Related Information

(1) For more information about this AD, contact Scott Craig, Aerospace Engineer, Cabin Safety and Environmental Systems Section, FAA, Seattle ACO Branch, 2200 South 216th St., Des Moines, WA 98198; phone and fax: 206-231-3566; email: Michael.S.Craig@faa.gov.

(2) Service information identified in this AD that is not incorporated by reference is available at the addresses specified in paragraphs (l)(5) and (6) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on September 29, 2020.

(i) Boeing Special Attention Service Bulletin 737-25-1728, Revision 1, dated November 26, 2019.

(ii) [Reserved]

(4) The following service information was approved for IBR on March 29, 2019 (84 FR 5587, February 22, 2019).

(i) Boeing Requirements Bulletin 737-25-1758 RB, dated November 8, 2017.

(ii) [Reserved]

(5) For service information identified in this AD, contact Boeing Commercial Airplanes, Attention: Contractual & Data Services (C&DS), 2600 Westminster Blvd., MC 110-SK57, Seal Beach, CA 90740-5600; telephone 562-797-1717; internet https://www.myboeingfleet.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, email fedreg.legal@nara.gov, or go to: https://www.archives.gov/federal-register/cfr/ibr-locations.html.

Issued on August 6, 2020.
Lance T. Gant,
Director, Compliance & Airworthiness Division, Aircraft Certification Service.

[FR Doc. 2020-18540 Filed 8-24-20; 8:45 am]

BILLING CODE 4910-13-P